DEPARTMENT OF COMMERCE

International Trade Administration

Application for Duty-Free Entry of Scientific Instruments

Pursuant to Section 6(c) of the Educational, Scientific and Cultural Materials Importation Act of 1966 (Pub. L. 89-651; as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, 14th and Constitution Ave., NW., Room 2104, Washington, DC 20230. Applications may be examined between 8:30 a.m. and 5 p.m. in Room 2104, U.S. Department of Commerce.

Docket Number: 08-016. Applicant: University of Colorado, 572 UCB, Boulder, CO 80309-0572. Instrument: Three-Channel Digital Radio Vector Field Sensor (RVFS). Manufacturer: Swedish Institute of Space Physics, Sweden. Intended Use: The instrument is intended to be used in a scientific project on the verification of the theory of multiple scattering of HF signals in the ionosphere with small-scale irregularities. The RVFS must have a capability to work with dipole antennas of two different lengths (1 m and 3 m) and a capability to oversample the output l&Q data. These specifications enable the instrument to operate in both mobile-mount and stationary conditions. Application accepted by Commissioner of Customs: April 30, 2008.

Docket Number: 08-017. Applicant: City College of the City University of New York, 160 Convent Ave., New York, NY 10031. Instrument: Ultrabroadband. Ti: Sapphire Laser Model Rainbow-DFG. Manufacturer: Femtolasers, Inc., Austria. Intended Use: The instrument will be used to develop experimental tools necessary to characterize ultrafast phenomena. A unique characteristic of this instrument is that it must generate optical pulses of less than 7 femtoseconds.

The amplifier system will be coupled with a 6 femtosecond laser and streak camera system to provide high spatial, high temporal and high spectral resolution for characterization, tunneling and carrier/phonon dynamics studies for nanoscale semiconductor quantum structures and devises. Application accepted by Commissioner of Customs: April 24, 2008.

Docket Number: 08-018. Applicant: Washington University, One Brookings Drive, St. Louis, MO 63130. Instrument: Modular Hot Cell—COMECER Model MIP1-1P-1350. Manufacturer: COMECER, Italy. Intended Use: The instrument will be used to evaluate the kinetics, biodistribution stability, dosimetry and safety of PET radiopharmaceuticals i.e., [18F]FHBG. The hot cell MIP1350 will house an automated chemistry module used to synthesize [18F]FHBG. Unique features of this instrument include a sealed enclosure independent of the door as well as stainless steel enclosures. Application accepted by Commissioner of Customs: April 29, 2008.

Dated: May 16, 2008.
Faye Robinson,
Director, Statutory Import Programs Staff, Import Administration.

[FR Doc. E8-11561 Filed 5-23-08; 8:45 am]

BILLING CODE 3510-DS-M